DEPARTMENT OF HEALTH AND HUMAN SERVICES

Food and Drug Administration

[Docket No. 98F-0430]

Nalco Chemical Co.; Withdrawal of Food Additive Petition

AGENCY: Food and Drug Administration, HHS.

ACTION: Notice.

SUMMARY: The Food and Drug Administration (FDA) is announcing the withdrawal, without prejudice to a future filing, of a food additive petition (FAP 8A4598) proposing that the food additive regulations be amended to provide for the safe use of sodium acrylate/sulfonated styrene copolymer for use as an antiscalant boiler treatment where steam from treated boilers may contact food.

FOR FURTHER INFORMATION CONTACT: Parvin M. Yasaei, Center for Food Safety and Applied Nutrition (HFS-215), Food and Drug Administration, 200 C St. SW., Washington, DC 20204, 202-418-3023.

SUPPLEMENTARY INFORMATION: In a notice published in the Federal Register of June 30, 1998 (63 FR 35603), FDA announced that a food additive petition (FAP 8A4598) had been filed by Nalco Chemical Co., One Nalco Center, Naperville, IL 60563. The petition proposed to amend the food additive regulations in § 173.310 Boiler water additives (21 CFR 173.310) to provide for the safe use of sodium acrylate/sulfonated styrene copolymer for use as an antiscalant boiler treatment where steam from treated boilers may contact food. Nalco Chemical Co. has now withdrawn the petition without prejudice to a future filing (21 CFR 171.7).

Dated: April 5, 2000.
Alan M. Rulis,
Director, Office of Premarket Approval, Center for Food Safety and Applied Nutrition.

[FR Doc. 00-10931 Filed 5-2-00; 8:45 am]

BILLING CODE 4160-01-F